DEPARTMENT OF THE INTERIOR

Fish and Wildlife Service

Copperbelly Water Snake (Nerodia erythrogaster neglecta) Draft Recovery Plan

AGENCY: Fish and Wildlife Service, Interior.

ACTION: Notice of document availability for review and comment.

SUMMARY: We, the U.S. Fish and Wildlife Service (Service), announce availability of the draft recovery plan for the Copperbelly Water Snake (Nerodia erythrogaster neglecta) for public review and comment. This species is federally listed as threatened under the Endangered Species Act of 1973, as amended (Act). The Copperbelly Water Snake is listed as a Distinct Population Segment in Michigan, Ohio, and Indiana, north of 40 degrees north latitude. The purpose of this plan is to recover this species so that it can be removed from the list of Threatened and Endangered Wildlife. We solicit review and comment from the public on this draft plan.

DATES: In order to consider your comments on the draft recovery plan, we must receive them on or before November 5, 2007.

ADDRESSES: You may obtain a copy by the following means:

1. World Wide Web: http://midwest.fws.gov/endangered; or

2. U.S. mail or in-person pickup: Field Supervisor, U.S. Fish and Wildlife Service, Ecological Services Field Office, 2651 Coolidge Road, Suite 101, East Lansing, MI 48823-6316; telephone, (517) 351-2555.

You may submit electronic comments on the recovery plan to this e-mail address: copperbellyplan@fws.gov.

FOR FURTHER INFORMATION CONTACT: Mr. Mike DeCapita by U.S. mail, e-mail, or telephone (see ADDRESSES). TTY users may contact Mr. DeCapita through the Federal Relay Service at (800) 877-8339.

SUPPLEMENTARY INFORMATION:

Background

Recovery of endangered or threatened animals or plants is a primary goal of our endangered species program. Recovery plans describe actions considered necessary for conservation of the species, establish criteria for reclassification and delisting, and provide estimates of the time and costs for implementing the recovery measures.

The Act (16 U.S.C. 1531 et seq.) requires the development of recovery plans for listed species unless such a plan would not promote the conservation of a particular species. Section 4(f) of the Act, as amended in 1988, requires that public notice and opportunity for public review and comment be provided during recovery plan development. We will consider all information presented during a public comment period prior to approval of each new or revised recovery plan. We and other Federal agencies will also take these comments into consideration in the course of implementing approved recovery plans.

The northern Distinct Population Segment (DPS) of the Copperbelly Water Snake was listed as threatened on January 29, 1997. The northern DPS occurs in Michigan, Indiana, and Ohio, north of 40 degrees north latitude. The current distribution of the Copperbelly Water Snake is limited to only a few small, scattered, and isolated population clusters in south central Michigan, northeastern Indiana, and northwestern Ohio. Surveys have indicated that the species is in decline throughout these areas.

Copperbelly Water Snakes have both wetland and terrestrial habitat requirements. The species is associated with wetland complexes characterized by a preponderance of shallow wetlands, many of which draw down seasonally. Such complexes may predominantly occur as isolated wetlands distributed in a forested upland matrix, floodplain wetlands fed by seasonal flooding, or a combination of both. Fishless wetlands, suitable for high anuran (frog and toad) productivity, are required to provide habitat and a suitable prey base.

The principal limiting factor for copperbellies appears to be sufficient extent of suitable habitat. Individuals move hundreds of meters or more between wetlands and routinely use multiple wetlands over the course of an active season. They also spend substantial periods of time in upland habitat aestivating, foraging, and shedding. Populations may require many hundreds of hectares of contiguous habitat in order to persist.

Delisting Criteria

The objective of the recovery plan is to provide a framework for the recovery of the Copperbelly Water Snake so that protection by the Act is no longer necessary. Copperbelly Water Snake will be considered for delisting when the likelihood of the species becoming extinct in the foreseeable future has been reduced or eliminated by the achievement of the following criteria. The population sizes and metapopulation numbers and sizes needed for delisting and reclassification may be updated based on further research (e.g., population viability analysis) on viable population sizes of Copperbelly Water Snake or surrogate species.

(1) Multiple population viability is assured through the following:

(a) At least 1 population of Copperbelly Water Snake must exceed a population size of 1000 adults;

(b) Either 5 geographically distinct populations have population sizes of more than 500 individuals or 3 metapopulations must have a total population size of 3000, with none less than 500; and

(c) Populations described in (a) and (b) above must persist at these levels for at least 10 years.

(2) Sufficient habitat is conserved and managed such that for each population described in Criterion 1:

(a) Wetland/upland habitat complexes sufficient to support each population are permanently conserved, and

(b) Two suitable hibernation sites are permanently conserved within one kilometer of all suitable summer habitat.

(3) Significant threats due to lack of suitable management, adverse land features and uses, collection, and persecution have been reduced or eliminated through the following means:

(a) Habitat management and protection guidelines will be developed, distributed, and maintained;

(b) Adverse land features and uses such as row crops and roads and accompanying traffic are removed, minimized, or managed within occupied Criterion-1 landscape complexes to the extent possible; and

(c) A comprehensive education and outreach program that addresses persecution and collection deterrence will be developed and implemented.

These criteria will be met through the following actions: (1) Identify and protect habitat landscape sufficient for recovery; (2) Monitor known Copperbelly Water Snake populations and their habitat; (3) Improve baseline understanding of Copperbelly Water Snake ecology; (4) Develop recovery approaches to enhance recruitment and population size; (5) Develop and implement public education and outreach efforts; (6) Review and track recovery progress; and (7) Develop a plan to monitor Copperbelly Water Snake after it is delisted.

Reclassification Criteria

Copperbelly Water Snake will be considered for reclassification from Threatened to Endangered if surveys indicate either of the following criteria have occurred:

(1) There are no metapopulations of more than 500 adults.

(2) The cumulative population size is less than 1000.

If classified as Endangered, the species may be reclassified as Threatened when the reclassification criteria are no longer occurring. Additional detail on delisting and reclassification criteria is available in the draft recovery plan.

Public Comments Solicited

The Service solicits written comments on the draft recovery plan. All comments received by the date specified will be considered prior to approval of the plan. Written comments and materials regarding the plan should be addressed to the Field Supervisor (see ADDRESSES). Comments and materials received will be available for public inspection by appointment during normal business hours at the above address.

Authority: The authority for this action is section 4(f) of the Endangered Species Act, 16 U.S.C. 1533(f).

Dated: July 25, 2007.
Wendi Weber,
Assistant Regional Director, Ecological Services, Region 3, Fort Snelling, Minnesota.

[FR Doc. E7-17582 Filed 9-5-07; 8:45 am]

BILLING CODE 4310-55-P